DEPARTMENT OF ENERGY

Federal Energy Regulatory Commission

[Docket No. EL08-44-000]

PJM Interconnection, L.L.C., Complainant, v. Accord Energy LLC, BJ Energy LLC, Franklin Power LLC, GLE Trading LLC, Ocean Power LLC, Pillar Fund LLC, Power Edge LLC, Tower Research Capital LLC, Tower Research Capital Investments LLC, Respondents; Notice of Complaint

March 10, 2008.

Take notice that on March 7, 2008, PJM Interconnection, LLC (PJM) filed a formal complaint against Accord Energy LLC, BJ Energy LLC, Franklin Power LLC, GLE Trading LLC, Ocean Power LLC, Pillar Fund LLC, Power Edge LLC, Tower Research Capital LLC, and Tower Research Capital Investments LLC (collectively, Respondents), pursuant to sections 206, 222, and 306 of the Federal Power Act, 16 U.S.C. 824e, 824v, and 825e and 18 CFR 385.206, alleging that the Respondents engaged in conduct and committed actions to manipulate the PJM market in violation of the Commission's prohibitions against market manipulation, and that Respondents should be required to disgorge unjust revenues and provide refunds, and be investigated for civil penalties.

PJM certifies that copies of the complaint were served on the contacts for Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 27, 2008.

Kimberly D. Bose,
Secretary.

[FR Doc. E8-5235 Filed 3-14-08; 8:45 am]

BILLING CODE 6717-01-P